DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 26, 2010.

Interested persons are invited to submit written comments regarding the subject matter of the investigations to the Director, Division of Trade Adjustment Assistance, at the address shown below, not later than February 26, 2010.

The petitions filed in this case are available for inspection at the Division of Trade Adjustment Assistance, Employment and Training Administration, U.S. Department of Labor, Room N-5428, 200 Constitution Avenue, NW., Washington, DC 20210.

Signed at Washington, DC this 1st day of February 2010.
Elliott Kushner,
Certifying Officer, Division of Trade Adjustment Assistance.

Appendix
[TAA petitions instituted between 1/18/10 and 1/22/10]
TA-W | Subject firm (petitioners) | Location | Date of institution | Date of petition
73296 | MMA Railway (Wkrs) | Hermon, ME | 01/19/10 | 01/11/10
73297 | Sherwin Williams (Wkrs) | Deshler, OH | 01/19/10 | 01/05/10
73298 | Citizen's Bank (Wkrs) | Medford, MA | 01/19/10 | 01/08/10
73299 | UK West (Wkrs) | PMartinsville, VA | 01/19/10 | 01/08/10
73300 | Wood-Mode (Wkrs) | Kreamer, PA | 01/19/10 | 01/05/10
73301 | Shieldalloy Metallurgical (Wkrs) | Newfield, NJ | 01/19/10 | 01/05/10
73302 | Wolfe Dye and Bleach Works, Inc. (Wkrs) | Shoemakersville, PA | 01/19/10 | 01/07/10
73303 | Weyerhaeuser Company (Wkrs) | Federal Way, WA | 01/19/10 | 01/07/10
73304 | Suntron Corporation (Comp) | Newberg, OR | 01/19/10 | 12/16/09
73305 | Reddog Industries, Inc. (Comp) | Erie, PA | 01/19/10 | 01/06/10
73306 | Lynn Ladder and Scaffolding Company (Wkrs) | Orwigsburg, PA | 01/19/10 | 01/06/10
73307 | Sinclar International Corporation (Wkrs) | Kenosha, WI | 01/20/10 | 01/14/10
73308 | Hoffmaster Group Inc., dba Brooklace (State) | West Haven, CT | 01/20/10 | 01/15/10
73309 | Ceratzit Newcomer USA (Union) | Derry, PA | 01/20/10 | 01/13/10
73310 | Optera, Inc. (Comp) | Holland, MI | 01/20/10 | 01/10/10
73311 | Saturn Corporation (Wkrs) | Elmhurst, IL | 01/20/10 | 01/12/10
73312 | AT&T Mobility (Wkrs) | Lebanon, VA | 01/20/10 | 01/19/10
73313 | Nut Tree, Inc. (Comp) | Kidron, OH | 01/20/10 | 01/06/10
73314 | Delphi Electronics and Safety (Comp) | Kokomo, IN | 01/21/10 | 01/15/10
73315 | Apria Healthcare (Wkrs) | Jackson, TN | 01/21/10 | 01/15/10
73316 | Yale Sportswear (Comp) | Federalsburg, MD | 01/21/10 | 01/10/10
73317 | Sappi (State) | Westbrook, ME | 01/21/10 | 01/20/10
73318 | Cascade Grain Products, LLC (Wkrs) | Clatskanie, OR | 01/21/10 | 01/07/10
73319 | LA-Z-Boy Casegoods, Inc. (Comp) | North Wilkesboro, NC | 01/21/10 | 01/08/10
73320 | Rio Tinto Services, Inc. (__) | South Jordan, UT | 01/21/10 | 12/28/09
73321 | Barnes Associated Spring (State) | Central Lake, MI | 01/21/10 | 01/19/10
73322 | The Hartford (Wkrs) | Phoenix, AZ | 01/21/10 | 01/15/10
73323 | US Airways (CWA) | Pittsburgh, PA | 01/21/10 | 01/11/10
73324 | Toyota Tsusho America, Inc. (State) | Fremont, CA | 01/21/10 | 01/19/10
73325 | Trim Masters, Inc. (State) | Modesto, CA | 01/21/10 | 01/19/10
73326 | The North Carolina Moulding Company (Wkrs) | Lexington, NC | 01/21/10 | 12/28/09
73327 | Bartlett Corporation (Comp) | Muncie, IN | 01/21/10 | 01/19/10
73328 | Sandy Corporation (State) | Troy, MI | 01/21/10 | 01/05/10
73329 | Resinoid Engineering Corporation (Wkrs) | Heath, OH | 01/22/10 | 06/04/09
73330 | Springs Global US, Inc. (Comp) | Fort Mill, SC | 01/22/10 | 01/20/10
73331 | Integrated Device Technology (IDT) (State) | Hillsboro, OR | 01/22/10 | 01/19/10
73332 | Mine Safety Appliances (Wkrs) | Murrysville, PA | 01/22/10 | 03/05/09
73333 | Aegis Communications Group (Comp) | Elkins, WV | 01/22/10 | 01/21/10
73334 | GBR Systems Ltd (State) | Chester, CT | 01/22/10 | 01/21/10
73335 | ArvinMeritor, Inc. (State) | Troy, MI | 01/22/10 | 12/30/09
73336 | AEES, Inc. (Rep) | Farmington Hills, MI | 01/22/10 | 01/20/10
73337 | Vector CANtech (Comp) | Novi, MI | 01/22/10 | 01/12/10
73338 | AIG American General (Wkrs) | Milwaukee, WI | 01/22/10 | 01/20/10
73339 | Carlisle Industrial Brake and Friction (Comp) | Logansport, IN | 01/22/10 | 01/20/10
73340 | Carestream Health, Inc. (State) | Windsor, CO | 01/22/10 | 01/19/10

[FR Doc. 2010-3007 Filed 2-12-10; 8:45 am]

BILLING CODE 4510-FN-P